DEPARTMENT OF TRANSPORTATION

Federal Aviation Administration

14 CFR Part 95

[Docket No. 31435 ; Amdt. No. 566]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, July 14, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 15, 2022.
Thomas J Nichols,
Manager, Aviation Safety, Flight Standards Service, Standards Section, Flight Procedures & Airspace Group, Flight Technologies and Procedures Division.

Adoption of the Amendment

Accordingly, pursuant to the authority delegated to me by the Administrator, part 95 of the Federal Aviation Regulations (14 CFR part 95) is amended as follows effective at 0901 UTC, June 03, 2010.

PART 95—IFR Altitudes

1. The authority citation for part 95 continues to read as follows:

Authority: 49 U.S.C. 106(g), 40103, 40113 and 14 CFR 11.49(b)(2)

2. Part 95 is amended to read as follows:

Revisions to IFR Altitudes & Changeover Point
[Amendment 566 effective date, July 14, 2022]
From | To | MEA | MAA
§ 95.3000 Low Altitude RNAV Routes
§ 95.3215 RNAV Route T215 Is Amended by Adding
BURGG, SC WP | *GENOD, NC Fix | 4000 | 17500
*4600—MCA | GENOD, NC Fix, N BND
GENOD, NC FIX | HORAL, TN WP | 8500 | 17500
HORAL, TN WP | HILTO, VA FIX | 6700 | 17500
RISTE, KY WP | DACEL, KY WP | 3800 | 17500
DACEL, KY WP | HUGEN, KY WP | 3300 | 17500
GAMKE, IN WP | MILAN, IN fix | 2800 | 8000
MILAN, IN FIX | DEEKS, IN FIX | 2900 | 17500
DEEKS, IN FIX | BONOY, IN WP | 2700 | 17500
BONOY, IN WP | CLEFT, IN FIX | 2600 | 17500
CLEFT, IN FIX | MAPPS, IN FIX | 2600 | 17500
MAPPS, IN FIX | SMARS, IL WP | 2500 | 10000
SMARS, IL WP | CPTON, IL WP | 2400 | 10000
Is Amended to Delete
HOLSTON MOUNTAIN, TN | VORTAC HILTO, VA FIX | 6700 | 17500
RISTE, KY WP | HAZARD, KY DME | 3800 | 17500
HAZARD, KY DME | HUGEN, KY WP | 3200 | 17500
Is Amended to Read in Part
HUGEN, KY WP | LEXINGTON, KY VOR/DME | 3100 | 17500
LEXINGTON, KY VOR/DME | NERVE, KY FIX | 2800 | 8000
NERVE, KY FIX | GAMKE, IN WP | 2600 | 8000
§ 95.3224 RNAV Route T224 Is Amended by Adding
MOCKS, TX WP | SHWNN, TX WP | 2100 | 17500
SHWNN, TX WP | WASPY, LA FIX | 1700 | 17500
WASPY, LA FIX | KNZLY, LA WP | 1700 | 17500
KNZLY, LA WP | ARTEL, LA FIX | 1700 | 17500
ARTEL, LA FIX | CRISP, LA FIX | 1700 | 17500
CRISP, LA FIX | MICRO, LA FIX | 1700 | 17500
MICRO, LA FIX | ZIROR, LA FIX | 1700 | 17500
ZIROR, LA FIX | DAFLY, LA WP | 1800 | 17500
DAFLY, LA WP | LULEW, LA FIX | 2100 | 17500
LULEW, LA FIX | BUDAM, LA FIX | 1700 | 17500
BUDAM, LA FIX | *MYRIC, LA FIX | 1700 | 17500
*1200—MOCA
MYRIC, LA FIX | WOVON, LA FIX | 1700 | 17500
WOVON, LA FIX | DONBE, LA FIX | 1700 | 17500
DONBE, LA FIX | AWDAD, LA FIX | 1700 | 17500
AWDAD, LA FIX | SIMBY, LA FIX | 1700 | 17500
SIMBY, LA FIX | VOODO, LA FIX | 1700 | 17500
VOODO, LA FIX | KJAAY, LA WP | 1700 | 17500
KJAAY, LA WP | SNAKI, LA FIX | 1700 | 17500
SNAKI, LA FIX | SLIDD, LA FIX | 1700 | 17500
SLIDD, LA FIX | CLERY, MS FIX | 1700 | 17500
CLERY, MS FIX | MUDDA, MS FIX | 1800 | 17500
MUDDA, MS FIX | WTERS, MS WP | 1800 | 17500
WTERS, MS WP | NESFE, MS FIX | 1800 | 17500
NESFE, MS FIX | BUGLE, MS FIX | 1900 | 17500
BUGLE, MS FIX | SQWID, MS FIX | 1800 | 17500
SQWID, MS FIX | LYNRD, AL WP | 1900 | 17500
LYNRD, AL WP | AXSIS, AL FIX | 2000 | 17500
AXSIS, AL WP | AXEJA, AL FIX | 2000 | 17500
AXEJA, AL FIX | TENSA, AL FIX | 1900 | 17500
TENSA, AL FIX | WIILL, AL WP | 2200 | 17500
WIILL, AL WP | PICKS, AL FIX | 2300 | 17500
PICKS, AL FIX | ALOON, AL FIX | 2300 | 17500
ALOON, AL FIX | MGMRY, AL WP | 2100 | 17500
MGMRY, AL WP | GONDR, AL WP | 2100 | 17500
GONDR, AL WP | RSVLT, GA WP | 2400 | 17500
RSVLT, GA WP | CANER, GA FIX | 2800 | 17500
CANER, GA FIX | GRANT, GA FIX | 2800 | 17500
GRANT, GA FIX | HUZER, GA FIX | 2600 | 17500
HUZER, GA FIX | SMARR, GA FIX | 2500 | 17500
SMARR, GA FIX | SINCA, GA FIX | 2500 | 17500
SINCA, GA FIX | GLOSS, GA FIX | 2400 | 17500
GLOSS, GA FIX | MADDI, GA FIX | 2400 | 17500
MADDI, GA FIX | JOTNO, GA FIX | 2500 | 17500
JOTNO, GA FIX | DACHA, GA FIX | 2500 | 17500
DACHA, GA FIX | UGAAA, GA WP | 2500 | 17500
UGAAA, GA WP | JOSPI, GA FIX | 2500 | 17500
JOSPI, GA FIX | BOWMN, GA FIX | 2500 | 17500
BOWMN, GA FIX | HARTI, GA FIX | 2600 | 17500
HARTI, GA FIX | ECITY, SC WP | 2500 | 17500
ECITY, SC WP | PEDAL, SC FIX | 3700 | 17500
PEDAL, SC FIX | DOODD, SC FIX | 3900 | 17500
DOODD, SC FIX | TUXDO, SC FIX | 5200 | 17500
TUXDO, SC FIX | STYLZ, NC WP | 6200 | 17500
STYLZ, NC WP | GENOD, NC FIX | 6200 | 17500
GENOD, NC FIX | SWENK, NC FIX | 5200 | 17500
SWENK, NC FIX | VAESE, NC FIX | 4900 | 17500
VAESE, NC FIX | BONZE, NC WP | 4500 | 17500
BONZE, NC WP | SANFI, NC FIX | 4100 | 17500
SANFI, NC FIX | JOTTA, NC FIX | 4000 | 17500
JOTTA, NC FIX | INGON, NC FIX | 3500 | 17500
INGON, NC FIX | PROVE, NC FIX | 3400 | 17500
PROVE, NC FIX | MAYOS, NC FIX | 4100 | 17500
MAYOS, NC FIX | LEAKS, NC FIX | 4100 | 17500
LEAKS, NC FIX | UFFIN, NC FIX | 3300 | 17500
UFFIN, NC FIX | MCDON, VA WP | 3300 | 17500
MCDON, VA WP | YUDUG, VA FIX | 2400 | 17500
YUDUG, VA FIX | NUTTS, VA FIX | 2300 | 17500
NUTTS, VA FIX | WAVES, VA WP | 3400 | 17500
WAVES, VA WP | TAPPA, VA FIX | 2100 | 17500
TAPPA, VA FIX | COLIN, VA FIX | 1900 | 17500
Is Amended to Delete
MOLLR, TX WP | BEAUMONT, TX VOR/DME | 2100 | 17500
BEAUMONT, TX VOR/DME | LAKE CHARLES, LA VORTAC | 1700 | 17500
Is Amended to Read in Part
MOLLR, TX WP | FRYED, TX WP | 1800 | 17500
FRYED, TX WP | MOCKS, TX WP | 2100 | 17500
§ 95.3251 RNAV Route T251 Is Amended by Adding
FRNIA, MO WP | FARMINGTON, MO VORTAC | 2900 | 17500
§ 95.3258 RNAV Route T258 Is Amended by Adding
ZIVMU, AL FIX | DAYVS, AL WP | 2500 | 17500
DAYVS, AL WP | HEENA, AL FIX | 2600 | 17500
CAMPP, AL FIX | BRAVS, GA WP | 2900 | 17500
BRAVS, GA WP | LANGA, GA FIX | 2600 | 17500
CANER, GA FIX | GRANT, GA FIX | 2900 | 17500
GRANT, GA FIX | HUZER, GA FIX | 2600 | 17500
HUZER, GA FIX | SMARR, GA FIX | 2500 | 17500
SMARR, GA FIX | SINCA, GA FIX | 2500 | 17500
SINCA, GA FIX | GLOSS, GA FIX | 2400 | 17500
GLOSS, GA FIX | MADDI, GA FIX | 2400 | 17500
MADDI, GA FIX | JOTNO, GA FIX | 2500 | 17500
JOTNO, GA FIX | DACHA, GA FIX | 2500 | 17500
DACHA, GA FIX | UGAAA, GA WP | 2500 | 17500
UGAAA, GA WP | HRTWL, SC WP | 2500 | 17500
HRTWL, SC WP | WILLS, SC FIX | 2400 | 17500
WILLS, SC FIX | TAYSO, SC FIX | 2300 | 17500
TAYSO, SC FIX | RICHE, SC FIX | 2400 | 17500
RICHE, SC FIX | HUNNY, NC WP | 2500 | 17500
HUNNY, NC WP | NATCH, NC FIX | 2400 | 17500
NATCH, NC FIX | GMINI, NC WP | 2400 | 17500
Is Amended to Delete
CRMSN, AL WP | BROOKWOOD, AL VORTAC | 2500 | 17500
BROOKWOOD, AL VORTAC | HEENA, AL FIX | 2600 | 17500
CAMPP, AL FIX | LAGRANGE, GA VORTAC | 2900 | 17500
LAGRANGE, GA VORTAC | LANGA, GA FIX | 2600 | 17500
Is Amended to Read in Part
MINIM, AL FIX | CAYAP, AL FIX | 2300 | 17500
CAYAP, AL FIX | CRMSN, AL WP | 2200 | 17500
CRMSN, AL WP | ZIVMU, AL FIX | 2300 | 17500
§ 95.3323 RNAV Route T323 Is Amended by Adding
MARQO, FL WP | LRSEY, GA WP | 2300 | 17500
LRSEY, GA WP | CROCS, GA WP | 2000 | 17500
BIGNN, GA WP | HELNN, NC WP | 7000 | 17500
HELNN, NC WP | OCOEE, NC WP | 6600 | 17500
OCOEE, NC WP | *KNITS, TN FIX | 7400 | 17500
*6200—MCA | KNITS, TN FIX, S BND
KNITS, TN FIX | CRECY, TN WP | 5000 | 17500
CRECY, TN WP | *ZADOT, TN WP | 4200 | 17500
*5400—MCA | ZADOT, TN WP, N BND
WELLA, KY WP | DACEL, KY WP | 3800 | 17500
Is Amended to Delete
BIGNN, GA WP | ZPPLN, NC WP | 7000 | 17500
ZPPLN, NC WP | HIGGI, NC WP | 7400 | 17500
HIGGI, NC WP | *KIDBE, TN WP | 7700 | 17500
*5900—MCA | KIDBE, TN WP, S BND
KIDBE, TN WP | ZADOT, TN WP | *4100 | 17500
*5000—MCA | ZADOT, TN WP, N BND
*WELLA, KY WP | HAZARD, KY DME | *3700 | 17500
*3800—MCA | WELLA, KY WP, S BND
Is Amended to Read in Part
BOBBR, GA WP | BIGNN, GA WP | *2700 | 17500
*3400—MCA | BIGNN, GA WP, N BND
ZADOT, TN WP | WELLA, KY WP | *5900 | 17500
*4400—MCA | WELLA, KY WP, S BND
§ 95.3354 RNAV Route T354 Is Amended by Adding
BIBLE GROVE, IL VORTAC | NUWAY, IL WP | 2100 | 17500
NUWAY, IL WP | MESSR, KY WP | 2300 | 17500
MESSR, KY WP | AHOYE, KY FIX | 2000 | 17500
AHOYE, KY FIX | SACDO, TN FIX | 2200 | 17500
SACDO, TN FIX | HAUSS, TN WP | 2000 | 17500

Revisions to IFR Altitudes & Changeover Point—Continued
[Amendment 566 effective date, July 14, 2022]
From | To | MEA | MAA
BIBLE GROVE, IL VORTAC | CUNNINGHAM, KY VOR/DME | 2500 | 17500
§ 95.3404 RNAV Route T404 Is Added to Read
TYGRR, AL WP | RENFO, GA FIX | 2400 | 17500
RENFO, GA FIX | PREST, GA FIX | 2400 | 17500
PREST, GA FIX | WILMS, GA FIX | 2400 | 17500
WILMS, GA FIX | POTAR, GA FIX | 2400 | 17500
POTAR, GA FIX | BYROE, GA WP | 2300 | 17500
BYROE, GA WP | NOKIE, GA WP | 2300 | 17500
NOKIE, GA WP | RIPPI, GA FIX | 2300 | 17500
RIPPI, GA FIX | HADOC, GA FIX | 2300 | 17500
HADOC, GA FIX | MISTY, GA FIX | 2300 | 17500
MISTY, GA FIX | HARLE, GA WP | 2300 | 17500
HARLE, GA WP | WANSA, SC WP | 2300 | 17500
WANSA, SC WP | GRAZE, SC WP | 2400 | 17500
GRAZE, SC WP | SAMMI, SC FIX | 2400 | 17500
SAMMI, SC FIX | STEET, SC FIX | 2300 | 17500
STEET, SC FIX | CAYCE, SC WP | 2300 | 17500
§ 95.3406 RNAV Route T406 Is Added to Read
KNZLY, LA WP | ARTEL, LA FIX | 1700 | 17500
ARTEL, LA FIX | CRISP, LA FIX | 1700 | 17500
CRISP, LA FIX | MICRO, LA FIX | 1700 | 17500
MICRO, LA FIX | *ZIROR, LA FIX | 1700 | 17500
*1600—MCA | ZIROR, LA FIX, E BND
ZIROR, LA FIX | DAFLY, LA WP | 1800 | 17500
DAFLY, LA WP | ROSEY, LA FIX | 1700 | 17500
ROSEY, LA FIX | TATER, LA FIX | 2100 | 17500
TATER, LA FIX | RCOLA, LA WP | 1800 | 17500
RCOLA, LA WP | DILLS, LA FIX | 1900 | 17500
DILLS, LA FIX | WALKE, LA FIX | *1800 | 17500
*1700—MCA | WALKE, LA FIX, E BND
WALKE, LA FIX | TICKS, LA FIX | 1800 | 17500
TICKS, LA FIX | RYTHM, LA FIX | 1800 | 17500
RYTHM, LA FIX | FRANK, LA FIX | 1900 | 17500
FRANK, LA FIX | PELLO, MS WP | 1900 | 17500
PELLO, MS WP | WIGGO, MS FIX | 2100 | 17500
WIGGO, MS FIX | GARTS, MS WP | 2000 | 17500
GARTS, MS WP | ERNON, AL FIX | 2100 | 17500
ERNON, AL FIX | WIILL, AL WP | 2200 | 17500
WIILL, AL WP | CHAFF, AL FIX | 2200 | 17500
CHAFF, AL FIX | RUTEL, AL FIX | 2200 | 17500
RUTEL, AL FIX | BANBI, AL FIX | 2300 | 17500
BANBI, AL FIX | CHIRP, AL FIX | 2400 | 17500
CHIRP, AL FIX | TYGRR, AL WP | 2300 | 17500
TYGRR, AL WP | *LUMPP, GA FIX | 2300 | 17500
*2000—MCA | LUMPP, GA FIX, W BND
LUMPP, GA FIX | AMAPO, GA FIX | 2300 | 17500
AMAPO, GA FIX | LILLY, GA FIX | 2300 | 17500
LILLY, GA FIX | GUVNR, GA FIX | 2100 | 17500
GUVNR, GA FIX | GAMSE, GA FIX | 2100 | 17500
GAMSE, GA FIX | DOOLY, GA WP | 2100 | 17500
DOOLY, GA WP | OCONE, GA FIX | 2100 | 17500
OCONE, GA FIX | KLICK, GA FIX | 2100 | 17500
KLICK, GA FIX | MILEN, GA FIX | 2100 | 17500
MILEN, GA FIX | DURBE, SC WP | 2000 | 17500
§ 95.3408 RNAV Route T408 Is Added to Read
NOKIE, GA WP | OTGUQ, GA FIX | 2300 | 17500
OTGUQ, GA FIX | GUMPY, GA WP | 2000 | 17500
GUMPY, GA WP | LOTTS, GA FIX | 2000 | 17500
LOTTS, GA FIX | BROSE, GA FIX | 1900 | 17500
BROSE, GA FIX | TBERT, GA WP | 1800 | 17500
§ 95.3410 RNAV Route T410 Is Added to Read
SINCA, GA FIX | BEYLO, GA FIX | 2400 | 17500
BEYLO, GA FIX | ANNAN, GA FIX | 3000 | 17500
ANNAN, GA FIX | *WANSA, SC WP | 3000 | 17500
*1900—MCA | WANSA, SC WP, W BND
WANSA, SC WP | TREAD, SC FIX | 2200 | 17500
TREAD, SC FIX | JOKER, SC FIX | 2300 | 17500
JOKER, SC FIX | *MONET, SC FIX | 2400 | 17500
*2000—MCA | MONET, SC FIX, NW BND
MONET, SC FIX | LEDAS, SC FIX | 2400 | 17500
LEDAS, SC FIX | WIDER, SC FIX | 2200 | 17500
§ 95.3412 RNAV Route T412 Is Added to Read
KNZLY, LA WP | HATHA, LA FIX | 1700 | 17500
HATHA, LA FIX | MAXON, LA FIX | 1700 | 17500
MAXON, LA FIX | BOZAN, LA FIX | 1800 | 17500
BOZAN, LA FIX | MOGAN, LA FIX | 1800 | 17500
MOGAN, LA FIX | WRACK, LA FIX | 2000 | 17500
WRACK, LA FIX | LESTE, MS FIX | 2100 | 17500
LESTE, MS FIX | ICEKI, MS WP | 2200 | 17500
ICEKI, MS WP | CETDA, MS FIX | 2200 | 17500
CETDA, MS FIX | WOBAK, MS FIX | 2200 | 17500
WOBAK, MS FIX | SSLAW, MS WP | 2100 | 17500
SSLAW, MS WP | *LIGIC, MS FIX | 2100 | 17500
*2200—MCA LIGIC, MS FIX, E BND
LIGIC, MS FIX | PICAN, MS FIX | 2300 | 17500
PICAN, MS FIX | YARBO, AL FIX | 2100 | 17500
YARBO, AL FIX | WIILL, AL WP | 2200 | 17500
WIILL, AL WP | PICKS, AL FIX | 2300 | 17500
PICKS, AL FIX | ALOON, AL FIX | 2300 | 17500
ALOON, AL FIX | MGMRY, AL WP | 2100 | 17500
MGMRY, AL WP | PETOC, AL FIX | 2000 | 17500
PETOC, AL FIX | MARST, AL FIX | 2400 | 17500
MARST, AL FIX | KENTT, AL FIX | 2300 | 17500
KENTT, AL FIX | YARBE, AL FIX | 2500 | 17500
YARBE, AL FIX | *TIMMY, AL FIX | 2500 | 17500
*2300—MCA | TIMMY, AL FIX, NE BND
TIMMY, AL FIX | HHRVY, AL WP | 2600 | 17500
HHRVY, AL WP | BRAVS, GA WP | 2600 | 17500
BRAVS, GA WP | HONIE, GA FIX | 2600 | 17500
HONIE, GA FIX | TIROE, GA FIX | 2600 | 17500
§ 95.3414 RNAV Route T414 Is Added to Read
LOGEN, GA FIX | *MILBY, SC WP | 3700 | 17500
*4000—MCA | MILBY, SC WP, NE BND
MILBY, SC WP | *SUNET, SC WP | 4800 | 17500
*5600—MCA | SUNET, SC WP, NE BND
SUNET, SC WP | STYLZ, NC WP | 7100 | 17500
STYLZ, NC WP | BONZE, NC WP | 6200 | 17500
BONZE, NC WP | HENBY, VA FIX | 4100 | 17500
HENBY, VA FIX | AYARA, VA WP | 3700 | 17500
AYARA, VA WP | BOJAR, VA WP | 3600 | 17500
§ 95.3420 RNAV Route T420 Is Added to Read
DALHART, TX VORTAC | WLBIR, TX WP | 5800 | 17500
WLBIR, TX WP | BRISC, TX FIX | 5000 | 17500
BRISC, TX FIX | BURNS FLAT, OK VORTAC | 4700 | 17500
BURNS FLAT, OK VORTAC | WILL ROGERS, OK VORTAC | 4500 | 17500
§ 95.3421 RNAV Route T421 Is Added to Read
LYFEE, AL WP | EGEST, AL FIX | 1900 | 17500
EGEST, AL FIX | SKIPO, AL FIX | 2000 | 17500
SKIPO, AL FIX | CLIOS, AL FIX | 2100 | 17500
CLIOS, AL FIX | BANBI, AL FIX | 2100 | 17500
BANBI, AL FIX | ZOREL, AL WP | 2600 | 17500
ZOREL, AL WP | GUMMP, AL WP | 2400 | 17500
GUMMP, AL WP | VLKNN, AL WP | 3100 | 17500
VLKNN, AL WP | SIPSY, AL FIX | 2400 | 17500
SIPSY, AL FIX | JOHNY, AL FIX | 2400 | 17500
JOHNY, AL FIX | LANER, AL FIX | 2600 | 17500
LANER, AL FIX | YOSNU, AL FIX | 2300 | 17500
YOSNU, AL FIX | HAGIE, AL WP | 2400 | 17500
§ 95.3422 RNAV Route T422 Is Added to Read
PANHANDLE, TX VORTAC | FASOG, TX FIX | 5300 | 17500
FASOG, TX FIX | WUDPI, TX WP | 5000 | 17500
WUDPI, TX WP | ASAZE, OK FIX | 4600 | 17500
ASAZE, OK FIX | BURNS FLAT, OK VORTAC | 3600 | 17500
BURNS FLAT, OK VORTAC | HISLA, OK FIX | 3600 | 17500
HISLA, OK FIX | ZELNU, OK FIX | 3500 | 17500
ZELNU, OK FIX | BISKT, OK WP | *3300 | 17500
*3000—MOCA
BISKT, OK WP | LASTS, OK FIX | 2900 | 17500
LASTS, OK FIX | GULLI, OK FIX | 2900 | 17500
GULLI, OK FIX | SEARS, OK FIX | 2800 | 17500
SEARS, OK FIX | TULSA, OK VORTAC | 3400 | 17500
§ 95.3423 RNAV Route T423 Is Added to Read
STYLZ, NC WP | *ROANS, TN FIX | 8900 | 17500
*8200—MCA | ROANS, TN FIX, S BND
ROANS, TN FIX | HORAL, TN WP | 6900 | 17500
HORAL, TN WP | GAUZY, VA WP | 6700 | 17500
GAUZY, VA WP | ZOMAD, VA FIX | 6500 | 17500
ZOMAD, VA FIX | STACY, VA FIX | 5900 | 17500
STACY, VA FIX | SLINK, WV FIX | 4700 | 17500
SLINK, WV FIX | MACET, WV FIX | 4800 | 17500
MACET, WV FIX | DIPUH, WV FIX | 4400 | 17500
DIPUH, WV FIX | CHARLESTON, WV VOR/DME | 4400 | 17500
§ 95.3425 RNAV Route T425 Is Added to Read
SIROC, GA WP | BERTT, GA FIX | 1800 | 17500
BERTT, GA FIX | HABLE, GA FIX | 1800 | 17500
HABLE, GA FIX | CROCS, GA WP | 2300 | 17500
CROCS, GA WP | RIPPI, GA FIX | 2300 | 17500
RIPPI, GA FIX | WOGOM, GA FIX | 2300 | 17500
WOGOM, GA FIX | SINCA, GA FIX | 2400 | 17500
SINCA, GA FIX | CANUK, GA FIX | 2400 | 17500
CANUK, GA FIX | WEMOB, GA FIX | 2400 | 17500
WEMOB, GA FIX | HUSKY, GA FIX | 2500 | 17500
§ 95.3427 RNAV Route T427 Is Added to Read
CAYCE, SC WP | HUFMN, SC WP | 2400 | 17500
HUFMN, SC WP | BLANE, SC FIX | 2400 | 17500
BLANE, SC FIX | VESTO, GA FIX | 2300 | 17500
VESTO, GA FIX | DNICE, GA WP | 2400 | 17500
DNICE, GA WP | UGAAA, GA WP | 2500 | 17500
UGAAA, GA WP | *CONLY, GA WP | 2700 | 17500
*3500—MCA | CONLY, GA WP, NW BND
CONLY, GA WP | *WOMAC, GA FIX | 4700 | 17500
*4700—MCA | WOMAC, GA FIX, SE BND
WOMAC, GA FIX | LOGEN, GA FIX | 4100 | 17500
§ 95.3429 RNAV Route T429 Is Added to Read
HOKES, AL FIX | SNEAR, AL FIX | 3800 | 17500
SNEAR, AL FIX | *JOSEP, AL FIX | 3700 | 17500
*3200—MCA | JOSEP, AL FIX, SE BND
JOSEP, AL FIX | FEWER, AL FIX | 2800 | 17500
FEWER, AL FIX | LEACH, AL WP | 2900 | 17500
LEACH, AL WP | MASHA, AL WP | 2500 | 17500
MASHA, AL WP | JUVLO, AL FIX | 2500 | 17500
JUVLO, AL FIX | HAGIE, AL WP | 2600 | 17500
§ 95.4000 High Altitude RNAV Routes
§ 95.4015 RNAV Route Q15 Is Amended by Adding
NABOB, AZ FIX | CHILY, AZ FIX | *24000 | 45000
*18000—GNSS MEA
*DME/DME/IRU MEA
§ 95.4073 RNAV Route Q73 Is Amended by Adding
LVELL, CA WP | BLKWL, CA WP | *18000 | 45000
*GNSS REQUIRED
BLKWL, CA WP | ZELMA, CA FIX | *18000 | 45000
*GNSS REQUIRED
ZELMA, CA FIX | KRLIE, CA WP * | 18000 | 45000
*GNSS REQUIRED
KRLIE, CA WP | HAKMN, NV WP | *18000 | 45000
*GNSS REQUIRED

From | To | MEA
§ 95.6001 VICTOR ROUTES—U.S.
§ 95.6018 VOR Federal Airway V11 Is Amended to Delete
MAGNOLIA, MS VORTAC | SIDON, MS VORTAC | 2000
SIDON, MS VORTAC | HOLLY SPRINGS, MS VORTAC | 3000
HOLLY SPRINGS, MS VORTAC | DYERSBURG, TN VORTAC | *2500
*2000—MOCA
DYERSBURG, TN VORTAC | CUNNINGHAM, KY VOR/DME | 2400
§ 95.6014 VOR Federal Airway V14 Is Amended to Read in Part
CARFF, OK FIX | WILL ROGERS, OK VORTAC | 3000
§ 95.6017 VOR Federal Airway V17 Is Amended to Read in Part
WILL ROGERS, OK VORTAC | ODINS, OK FIX
NW BND 4900 SE BND 3300
§ 95.6018 VOR Federal Airway V18 Is Amended to Delete
MERIDIAN, MS VORTAC | CRIMSON, AL VORTAC | 2000
CRIMSON, AL VORTAC | VULCAN, AL VORTAC | 2400
§ 95.6035 VOR Federal Airway V35 Is Amended to Delete
PECAN, GA VOR/DME | MACON, GA VORTAC | 2000
MACON, GA VORTAC | SINCA, GA FIX | 2500
§ 95.6047 VOR Federal Airway V47 Is Amended to Delete
PINE BLUFF, AR VOR/DME | GILMORE, AR VOR/DME * | 4000
*1800—MOCA
GILMORE, AR VOR/DME | DYERSBURG, TN VORTAC | 2500
DYERSBURG, TN VORTAC | CUNNINGHAM, KY VOR/DME | 2400
§ 95.6054 VOR Federal Airway V54 Is Amended to Delete
LITTLE ROCK, AR VORTAC | MARVELL, AR VOR/DME | 1900
MARVELL, AR VOR/DME | HOLLY SPRINGS, MS VORTAC | 2200
HOLLY SPRINGS, MS VORTAC | MUSCLE SHOALS, AL VORTAC | 3000
MUSCLE SHOALS, AL VORTAC | TANNE, AL FIX | 2400
TANNE, AL FIX | ROCKET, AL VORTAC | 2900
ROCKET, AL VORTAC | CHOO CHOO, TN VORTAC | 4000
CHOO CHOO, TN VORTAC | *CRAND, GA FIX | *3000
*4500—MCA | CRAND, GA FIX, E BND
CRAND, GA FIX | MELLS, GA FIX | 6000
MELLS, GA FIX | HARRIS, GA VORTAC | *6000
*5200—MOCA
HARRIS, GA VORTAC | DILLA, GA WP | 7500
DILLA, GA WP | RESTS, SC FIX | *8000
*6800—MOCA
RESTS, SC FIX | CLEVA, SC FIX | *7000
*5100—MOCA
*5100—GNSS MEA
CLEVA, SC FIX | *SPARTANBURG, SC VORTAC | **6000
*5200—MCA | SPARTANBURG, SC VORTAC, W BND
**3300—GNSS MEA
SPARTANBURG, SC VORTAC | CHARLOTTE, NC VOR/DME | *4000
*2600—MOCA
CHARLOTTE, NC VOR/DME | LOCAS, NC FIX | 3100
LOCAS, NC FIX | SANDHILLS, NC VORTAC | 2500
§ 95.6056 VOR Federal Airway V56 Is Amended to Delete
MONTGOMERY, AL VORTAC | TUSKEGEE, AL VOR/DME | 2000
TUSKEGEE, AL VOR/DME | MARVO, AL FIX | 2100
MARVO, AL FIX | COLUMBUS, GA VORTAC | *2600
*2000—MOCA
COLUMBUS, GA VORTAC | *PRATZ, GA FIX | 2500
*3000—MRA
PRATZ, GA FIX | MACON, GA VORTAC | #GNSS—2500
#MACON R-265 UNUSABLE GNSS REQUIRED
MACON, GA VORTAC | MISTY, GA WP | *6000
*2200—MOCA
MISTY, GA WP | COLLIERS, SC VORTAC | 2300
§ 95.6056 VOR Federal Airway V66 Is Amended to Delete
CRIMSON, AL VORTAC | BROOKWOOD, AL VORTAC | *2500
*2000—MOCA
LAGRANGE, AL VORTAC | CANER, GA FIX | 3500
CANER, GA FIX | GRANT, GA FIX | *3000
*2400—MOCA
GRANT, GA FIX | *SMARR, GA FIX | **4000
*4500—MCA SMARR, GA FIX, NE BND
**2500—MOCA
**2600—GNSS MEA
SMARR, GA FIX | *SINCA, GA FIX | **4000
*4500—MCA SINCA, GA FIX, SW BND
**2500—MOCA
**2500—GNSS MEA
SINCA, GA FIX | ATHENS, GA VOR/DME | *3000
*2200—MOCA
ATHENS, GA VOR/DME | GREENWOOD, SC VORTAC | *2500
*2200—MOCA
GREENWOOD, SC VORTAC | *RICHE, SC FIX | *4000
*2100—MOCA
*2500—GNSS MEA
RICHE, SC FIX | SANDHILLS, NC VORTAC | *8000
*2300—MOCA
*2500—GNSS MEA
§ 95.6077 VOR Federal Airway V77 Is Amended to Read in Part
WILL ROGERS, OK VORTAC | PIONEER, OK VORTAC | *4000
*3200—MOCA
§ 95.6081 VOR Federal Airway V81 Is Amended to Read in Part
PANHANDLE, TX VORTAC | DALHART, TX VORTAC | 6100
§ 95.6056 VOR Federal Airway V97 Is Amended to Delete
PRATZ, GA FIX | OLISY, GA FIX | *4000
*2700—MOCA
*3000—GNSS MEA
OLISY, GA FIX | ATLANTA, GA VORTAC | *3000
*2400—MOCA
ATLANTA, GA VORTAC | BAPPY, GA FIX | *4000
*3300—MOCA
BAPPY, GA FIX | *NELLO, GA FIX | *5000
*10000—MCA NELLO, GA FIX, N BND
§ 95.6114 VOR Federal Airway V114 Is Amended to Read in Part
PANHANDLE, TX VORTAC | *DOGIN, TX FIX | **5400
*6500—MRA
**5000—MOCA
§ 95.6132 VOR Federal Airway V132 Is Amended to Read in Part
CHANUTE, KS VOR/DME | NALLY, KS FIX
W BND 2800
E BND 4500
§ 95.6140 VOR Federal Airway V140 Is Amended to Delete
BURNS FLAT, OK VORTAC | *HISLA, OK FIX | 3600
*4000—MRA
HISLA, OK FIX | KINGFISHER, OK VORTAC | *3600
*3000—MOCA
KINGFISHER, OK VORTAC | LASTS, OK FIX | 3000
LASTS, OK FIX | IBAAH, OK FIX | *4500
*3100—MOCA
IBAAH, OK FIX | TULSA, OK VORTAC | 3300
WALNUT RIDGE, AR VORTAC | HELMS, MO FIX | 2400
HELMS, MO FIX | DYERSBURG, TN VORTAC | 2000
DYERSBURG, TN VORTAC | NASHVILLE, TN VORTAC | 3500
§ 95.6154 VOR Federal Airway V154 Is Amended to Delete
ROME, GA VORTAC | MACON, GA VORTAC | *4000
*3400—MOCA MAA—7000
MACON, GA VORTAC | DUBLIN, GA VORTAC | #2300
#MACON R-099 UNUSABLE USE DUBLIN R-286
Is Amended by Adding
ROME, GA VORTAC | TIROE, GA FIX | 4000
MAA—7000
§ 95.6161 VOR Federal Airway V161 Is Amended to Delete
TULSA, OK VORTAC | NOVEL, OK FIX | 3100
NOVEL, OK FIX | OSWEGO, KS VOR/DME | 2800
OSWEGO, KS VOR/DME | NALLY, KS FIX | *3000
*2400—MOCA
NALLY, KS FIX | BUTLER, MO VORTAC | *3000
*2500—MOCA
§ 95.6190 VOR Federal Airway V190 Is Amended to Delete
BARTLESVILLE, OK VOR/DME | OSWEGO, OK VOR/DME | 2700
OSWEGO, KS VOR/DME | SPRINGFIELD, MO VORTAC | *6200
*3100—MOCA
*4000—GNSS MEA
§ 95.6198 VOR Federal Airway V198 Is Amended to Read in Part
AGAZY, TX FIX | DOWES, TX FIX | *9000
*6400—MOCA
DOWES, TX FIX | FORT STOCKTON, TX VORTAC | 5100
FORT STOCKTON, TX VORTAC | KEMPL, TX FIX | *8000
*5500—MOCA
§ 95.6222 VOR Federal Airway V222 Is Amended to Delete
LOGEN, GA FIX | CORCE, GA FIX | *4600
*3700—MOCA
CORCE, GA FIX | FOOTHILLS, SC VOR/DME | 3400
FOOTHILLS, SC VOR/DME | SUNET, SC WP | *6100
*4800—MOCA
SUNET, SC WP | SUGARLOAF MOUNTAIN, NC VORTAC | 7100
SUGARLOAF MOUNTAIN, NC VORTAC | BARRETTS MOUNTAIN, NC VOR/DME | 6200
BARRETTS MOUNTAIN, NC VOR/DME | HENBY, VA FIX | 5000
HENBY, VA FIX | LYNCHBURG, VA VOR/DME | 4000
Is Amended to Read in Part
SALT FLAT, TX VORTAC | HOBAN, TX FIX | *9000
*7900—MOCA
HOBAN, TX FIX | FORT STOCKTON, TX VORTAC | 5100
FORT STOCKTON, TX VORTAC | KEMPL, TX FIX | *8000
*5500—MOCA
§ 95.6245 VOR Federal Airway V245 Is Amended to Delete
BIGBEE, MS VORTAC | MINIM, AL FIX | 2000
MINIM, AL FIX | CRIMSON, AL VORTAC | 2400
§ 95.6272 VOR Federal Airway V272 Is Amended to Delete
DALHART, TX VORTA | BORGER, TX VORTAC | 5700
BORGER, TX VORTAC | BRISC, TX FIX | 5000
BRISC, TX FIX | BURNS FLAT, OK VORTAC | *5000
*4500—MOCA
§ 95.6278 VOR Federal Airway V278 Is Amended by Adding
WARLO, AR FIX | HAMPT, AR FIX | *9000
*1700—MOCA
Is Amended to Delete
WARLO, AR FIX | LOCUS, AR FIX | *3000
*1700—MOCA
LOCUS, AR FIX | MONTICELLO, AR VOR/DME | *2500
*1600—MOCA
MONTICELLO, AR VOR/DME | GREENVILLE, MS VOR/DME | *2000
*1500—MOCA
Is Amended to Read in Part
TEXARKANA, AR VORTAC | WEEBR, AR FIX | 2200
WEEBR, AR | FIX WARLO, AR | FIX 4000
§ 95.6304 VOR Federal Airway V304 Is Amended to Delete
PANHANDLE, TX VORTAC | BORGER, TX VORTAC | 5000
BORGER, TX VORTAC | LIBERAL, KS VORTAC | 4800
LIBERAL, KS | VORTAC LAMAR, CO VOR/DME | *6000
*5300—MOCA
§ 95.6305 VOR Federal Airway V305 Is Amended to Delete
WALNUT RIDGE, AR VORTAC | MALDEN, MO VORTAC | 2300
MALDEN, MO VORTAC | CUNNINGHAM, KY VOR/DME | 2500
§ 95.6307 VOR Federal Airway V307 Is Amended to Delete
OSWEGO, KS VOR/DME | CHANUTE, KS VOR/DME | *3000
*2500—MOCA
§ 95.6323 VOR Federal Airway V323 Is Amended to Delete
EUFAULA, ALVORTAC | BYROE, GA FIX | *3000
*2100—MOCA
BYROE, GA FIX | MACON, GA VORTAC | 2300
MACON, GA VORTAC | NALIZ, GA FIX | *3000
*2500—MOCA
NALIZ, GA FIX | WEMOB, GA FIX | *3000
*2100—MOCA
WEMOB, GA FIX | HUSKY, GA FIX | *3000
*2200—MOCA
Is Amended by Adding
EUFAULA, AL VORTAC | WILMS, GA FIX | *3000
*2100—MOCA
§ 95.6325 VOR Federal Airway V325 Is Amended by Adding
GADSDEN, AL VOR/DME | FEWER, AL FIX | 3500
Is Amended to Delete
ATHENS, GA VOR/DME | WOMAC, GA FIX | 3700
WOMAC, GA FIX | LOGEN, GA FIX | *4600
*3700—MOCA
GADSDEN, AL VOR/DME | MUSCLE SHOALS, AL | VORTAC 3500
§ 95.6056 VOR Federal Airway V362 Is Amended to Delete
BRUNSWICK, GA VORTAC | *HABLE, GA FIX | **3000
*10000—MCA HABLE, GA FIX, NW BND
**1700—MOCA
HABLE, GA FIX | ALMA, GA VORTAC | *10000
*1700—MOCA
*3000—GNSS MEA
ALMA, GA VORTAC | SEYBO, GA FIX | #*5000
*1800—MOCA
*2000—GNSS MEA
#ALMA R-309 UNUSABLE, USE VIENNA R-127
SEYBO, GA FIX | VIENNA, GA VORTAC | 2000
VIENNA, GA VORTAC | MACON, GA VORTAC | 2000
§ 95.6390 VOR Federal Airway V390 Is Amended to Delete
TUCUMCARI, NM VORTAC | BORGER, TX VORTAC | 6500
BORGER, TX VORTAC | MITBEE, OK VORTAC | 4800
§ 95.6397 VOR Federal Airway V397 Is Amended to Delete
MONROE, LA VORTAC | RUTTS, AR FIX | *6000
*1600—MOCA
RUTTS, AR FIX | GREENVILLE, MS VOR/DME | 2000
GREENVILLE, MS VOR/DME | MARVELL, AR VOR/DME | 1900
§ 95.6402 VOR Federal Airway V402 Is Amended to Read in Part
PANHANDLE, TX VORTAC | *BRISC, TX FIX | **8000
*8000—MCA | BRISC, TX FIX, NE BND
**5000—MOCA
§ 95.6417 VOR Federal Airway V417 Is Amended to Delete
MERIDIAN, MS VORTAC | CRIMSON, AL VORTAC | 2000
CRIMSON, AL VORTAC | VULCAN, AL VORTAC | 2400
NELLO, GA FIX | AWSON, GA FIX | *7000
*5500—MOCA
AWSON, GA FIX | CORCE, GA FIX | *5400
*4600—MOCA
CORCE, GA FIX | IRMOS, GA FIX | 3800
IRMOS, GA FIX | ATHENS, GA VOR/DME | 3800
Is Amended to Read in Part
ROME, GA VORTAC NELLO, GA FIX 5600
§ 95.6436 VOR Federal Airway V436 Is Amended to Read in Part
HOBART, OK VORTAC | *NEADS, OK FIX | **5400
*5400—MRA
*5400—MCA | NEADS, OK FIX, W BND
**3600—MOCA
§ 95.6440 VOR Federal Airway V440 Is Amended to Read in Part
PANHANDLE, TX VORTAC | *BRISC, TX FIX | **8000
*11000—MCA BRISC, TX FIX, E BND
**5000—MOCA
BRISC, TX FIX | BURNS FLAT, OK VORTAC | *11000
*4500—MOCA
*5000—GNSS MEA
CARFF, OK FIX | WILL ROGERS, OK VORTAC | 3000
§ 95.6056 VOR Federal Airway V454 Is Amended to Delete
MONROEVILLE, AL VORTAC | CHAFF, AL FIX | 2000
CHAFF, AL FIX | *RUTEL, AL FIX | **2500
*4500—MCA RUTEL, AL FIX, NE BND
**1800—MOCA
RUTEL, AL FIX | *CRENS, AL FIX | **4500
*4500—MCA CRENS, AL FIX, SW BND
**1800—MOCA
CRENS, AL FIX | BANBI, AL FIX | *2400
*2100—MOCA
BANBI, AL FIX | COLUMBUS, GA VORTAC | 2400
COLUMBUS, GA VORTAC | GRANT, GA FIX | *3000
*2400—MOCA
GRANT, GA FIX | *SMARR, GA FIX | **4000
*4500—MCA SMARR, GA FIX, NE BND
*2500—MOCA
**2600—GNSS MEA
SMARR, GA FIX | *SINCA, GA FIX | **4500
*4500—MCA SINCA, GA FIX, SW BND
*2500—MOCA
**2500—GNSS MEA
SINCA, GA FIX | *MADDI, GA FIX | **3000
*4000—MCA MADDI, GA FIX, NE BND
**2200—MOCA
MADDI, GA FIX | *VESTO, GA FIX | **4000
*4000—MCA VESTO, GA FIX, SW BND
**2300—MOCA
VESTO, GA FIX | GREENWOOD, SC VORTAC | 2500
GREENWOOD, SC VORTAC | LOCKS, SC FIX | 2400
§ 95.6516 VOR Federal Airway V516 Is Amended to Delete
PIONEER, OK VORTAC | TYROE, KS FIX | *3100
*2600—MOCA
TYROE, KS FIX | OSWEGO, KS VOR/DME | 2700
§ 95.6402 HAWAII VOR Federal Airway V2 Is Amended to Read in Part
LANAI, HI VORTAC | KEIKI, HI FIX | 5500
§ 95.6421 HAWAII VOR Federal Airway V21 Is Amended to Read in Part
LANAI, HI VORTAC | KEIKI, HI FIX | 5500

From | To | MEA | MAA
§ 95.7001 JET Routes
§ 95.7004 JET Route J4 Is Amended to Delete
MAGNOLIA, MS VORTAC | MERIDIAN, MS VORTAC | 18000 | 45000
MERIDIAN, MS VORTAC | MONTGOMERY, AL VORTAC | 18000 | 45000
MONTGOMERY, AL VORTAC | COLLIERS, SC VORTAC | 18000 | 45000
§ 95.7008 JET Route J8 Is Amended to Delete
FORT UNION, NM VORTAC | BORGER, TX VORTAC | 18000 | 45000
BORGER, TX VORTAC | KINGFISHER, OK VORTAC | 18000 | 45000
KINGFISHER, OK VORTAC | SPRINGFIELD, MO VORTAC | 18000 | 45000
§ 95.7045 JET Route J45 Is Amended to Delete
ATLANTA, GA VORTAC | NASHVILLE, TN VORTAC | 18000 | 45000
§ 95.7045 JET Route J89 Is Amended to Delete
ATLANTA, GA VORTAC | LOUISVILLE, KY VORTAC | 18000 | 45000
§ 95.7045 JET Route J142 Is Amended to Delete
SOCORRO, NM VORTAC | ANTON CHICO, NM VORTAC | 18000 | 45000
ANTON CHICO, NM VORTAC | BORGER, TX VORTAC | 18000 | 45000
§ 95.7045 JET Route J239 Is Amended to Delete
ATLANTA, GA VORTAC | MERIDIAN, MS VORTAC | 24000 | 45000

Airway Segment: From | Airway Segment: To | Changeover Points: Distance | Changeover Points: From
§ 95.8005 Jet Route Changeover Points
J89 Is Amended to Delete Changeover Point
LOUISVILLE, KY VORTAC | ATLANTA, GA VORTAC | 148 | LOUISVILLE
§ 95.8003 VOR Federal Airway Changeover Point
V47 Is Amended to Delete Changeover Point
PINE BLUFF, AR VOR/DME | GILMORE, AR VOR/DME | 41 | PINE BLUFF.
V54 Is Amended to Delete Changeover Point
CHOO CHOO, TN VORTAC | HARRIS, GA VORTAC | 36 | CHOO CHOO.
HARRIS, GA VORTAC | SPARTANBURG, SC VORTAC | 52 | HARRIS.
V56 Is Amended to Delete Changeover Point
MONTGOMERY, AL VORTAC | TUSKEGEE, AL VOR/DME | 30 | MONTGOMERY.
V66 Is Amended to Delete Changeover Point
GREENWOOD, SC VORTAC | SANDHILLS, NC VORTAC | 64 | GREENWOOD.
V198 Is Amended to Add Changeover Point
FORT STOCKTON, TX VORTAC | JUNCTION, TX VORTAC | #64 | FORT STOCKTON.
#MEA GAP AT COP
V222 Is Amended to Add Changeover Point
FORT STOCKTON, TX VORTAC | JUNCTION, TX VORTAC | #64 | FORT STOCKTON.
#MEA GAP AT COP
V222 Is Amended to Delete Changeover Point
BARRETTS MOUNTAIN, NC VOR/DME | LYNCHBURG, VA VOR/DME | 62 | BARRETTS MOUNTAIN.
V272 Is Amended to Delete Changeover Point
BORGER, TX VORTAC | BURN FLATS, OK VORTAC | 51 | BORGER.
V325 Is Amended to Modify Changeover Point
COLUMBIA, SC VORTAC | ATHENS, GA VOR/DME | 90 | COLUMBIA.

[FR Doc. 2022-13059 Filed 6-16-22; 8:45 am]

BILLING CODE 4910-13-P